DEPARTMENT OF HEALTH AND HUMAN SERVICES

Health Resources and Services Administration

National Advisory Council on the National Health Service Corps; Notice of Meeting

In accordance with section 10(a)(2) of the Federal Advisory Committee Act (Pub. L. 92-463), notice is hereby given of the following meeting:

Name: National Advisory Council on the National Health Service Corps (NHSC).

Dates and Times: June 22, 2011-8:30 a.m.-4:30 p.m.

June 23, 2011—8 a.m.—12 p.m.

Place: Saddlebrook Tampa, 5700 Saddlebrook Way, Wesley Chapel, FL 33543, Phone: 813-973-1111.

Status: The meeting will be open to the public.

Agenda: The Council is convening in Tampa, Florida, to hear NHSC program updates and to discuss evidence-based strategies for clinician retention, and a new communications tool for clinicians. A portion of the meeting will be open for public comment and questions.

For Further Information Contact: Njeri Jones, Bureau of Clinician Recruitment and Service, Health Resources and Services Administration, Parklawn Building, Room 8A-46, 5600 Fishers Lane, Rockville, MD 20857; e-mail: NJones@hrsa.gov; Telephone: 301-443-2541.

Dated: May 17, 2011.
Reva Harris,
Acting Director, Division of Policy and Information Coordination.

[FR Doc. 2011-12656 Filed 5-20-11; 8:45 am]

BILLING CODE 4165-15-P